DEPARTMENT OF THE INTERIOR

National Park Service

National Register of Historic Places; Notification of Pending Nominations and Related Actions

Nominations for the following properties being considered for listing or related actions in the National Register were received by the National Park Service before November 6, 2009. Pursuant to § 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by December 10, 2009.

J. Paul Loether,
Chief, National Register of Historic Places/National Historic Landmarks Program.

CALIFORNIA

Mendocino County

Navarro, Navarro Beach Rd., Albion, 09001089

IOWA

Polk County

Mattes, Minnie Y. and Frank P., House, (Architectural Legacy of Proudfoot & Bird in Iowa MPS) 1305 34th St., Des Moines, 09001090

KANSAS

Bourbon County

Fort Scott Downtown Historic District, Oak to 3rd St., Scott Ave. to National Ave., Fort Scott, 09001091

Doniphan County

Wathena Fruit Growers' Association Building, 104 3rd St., Wathena, 09001092

MARYLAND

Anne Arundel County

Quarter Place, 216 Marlboro Rd., Lothian, 09001094

Scott, Lula G., Community Center (Rosenwald Schools of Anne Arundel County, Maryland MPS), 6243 Shady Side Rd., Shady Side, 09001093

MASSACHUSETTS

Middlesex County

Crafts Street City Stable (Newton MRA), 90 Crafts St., Newton, 09001095

Plymouth County

Marshfield Hills HD, Bow, Highland, Main, Old Main, Pleasant and Prospect Sts., Glen, Marshfield, 09001096

MINNESOTA

Blue Earth County

Mapleton Public Library, 104 1st. Ave. NE., Mapleton, 09001097

MISSOURI

Jackson County

Switzer School Buildings, generally bounded by Madison Ave. and Summit St., 18th to 20th Sts., Kansas City, 09001098

St. Louis Independent city

Marine Villa Neighborhood Historic District (South St. Louis Historic Working and Middle Class Streetcar Suburbs MPS), Roughly bounded by S. Broadway, Chippewa, Cahokia, Kosciusko & Winnebago, St. Louis, 09001099

NEW JERSEY

Monmouth County

Carlton, Theatre, The, 99 Monmouth St., Red Bank Borough, 09001100

Salem County

Boudinot—Southard Farmstead, 135 N. Maple Ave., Bernards Township, 09001101

Somerset County

Six Mile Run Reformed Church, 3037 NJ 27, Franklin, 09001102

NORTH CAROLINA

Catawba County

Claremont High School Historic District (Boundary Increase), (Hickory MRA) 505-753 N. Center St., 102-126 and 401 2nd Ave NE, 406-602 3rd Ave. NE, 12-118 5th Ave. NW, 212-258 5th Ave., Hickory, 09001103

Currituck County

Jarvisburg Colored Schools, 7301 NC 158, Jarvisburg, 09001104

Durham County

Hope Valley Historic District, (Durham MRA) Avon Rd., Chelsea Circle, Cornwall Rd., Devon Rd. Exeter Way, Littlewoods Ln., Norwich Way, Stratford Rd., Durham, 09001105

Wake County

Meadowbrook Country Club, 8025 Country Club Dr., Garner, 09001106

SOUTH CAROLINA

Richland County

Spigner, A. Fletcher, House, 2028 Wheat St., Columbia, 09001107

UTAH

San Juan County

Neck and Cabin Springs Grazing Area, Grand View Point Rd., Moab, 09001108

WYOMING

Albany County

University Neighborhood Historic District, Roughly bounded by 6th St., 15th St., University Ave. and Custer St., Laramie, 09001109

Big Horn County

Carey Block, 602 Greybull Ave., Greybull, 09001110

[FR Doc. E9-28232 Filed 11-24-09; 8:45 am]

BILLING CODE P